FEDERAL ELECTION COMMISSION

11 CFR Parts 100, 104 and 110

[Notice 2009-03]

Reporting Contributions Bundled by Lobbyists, Registrants and the PACs of Lobbyists and Registrants

Correction

In rule document E9-2838 beginning on page 7285 in the issue of Tuesday, February 17, 2009 make the following correction:

On page 7288, in the third column, in the first paragraph, in the second line,

“are given, they must d”

should read

“are given, they must disclose applicable contributions of the PAC on their semi-annual reports.”.

[FR Doc. Z9-2838 Filed 3-11-09; 8:45 am]

BILLING CODE 1505-01-D